DEPARTMENT OF COMMERCE

International Trade Administration

[C-570-936]

Circular Welded Carbon Quality Steel Line Pipe from the People's Republic of China: Notice of Amended Final Determination Pursuant to Final Court Decision

AGENCY: Import Administration, International Trade Administration, Department of Commerce.

SUMMARY: On December 11, 2009, the United States Court of International Trade (CIT) sustained the Department of Commerce's (the Department) remand determination in Circular Welded Carbon Quality Steel Line Pipe from the People's Republic of China: Final Affirmative Countervailing Duty Determination, 73 FR 70961 (Nov. 24, 2008) (Line Pipe from the PRC), amended by Circular Welded Carbon Quality Steel Line Pipe from the People's Republic of China: Notice of Amended Final Affirmative Countervailing Duty Determination and Notice of Countervailing Duty Order, 74 FR 4136 (Jan. 23, 2009) (Amended Line Pipe from the PRC). Because all litigation in this matter has concluded, the Department is issuing the amended final determination in Line Pipe from the PRC in accordance with the CIT's decision.

EFFECTIVE DATE: March 31, 2010.

FOR FURTHER INFORMATION CONTACT: John Conniff, AD/CVD Operations, Office 3, Import Administration, International Trade Administration, U.S. Department of Commerce, 14th Street and Constitution Ave., NW., Washington, DC 20230; telephone: 202/482-1009.

SUPPLEMENTARY INFORMATION:

Background

On November 24, 2008, the Department published its affirmative countervailing duty determination in Line Pipe from the PRC. On January 23, 2009, the Department published an amended affirmative countervailing duty determination in conjunction with the countervailing duty order. See Amended Line Pipe from the PRC. After correcting for ministerial errors, the Department calculated an amended subsidy rate for Huludao Seven-Star Steel Pipe Group Co., Ltd. (Huludao Seven Star Group), Huludao Steel Pipe Industrial Co. Ltd. (Huludao Steel Pipe), and Huludao Bohai Oil Pipe Industrial Co. Ltd. (Huludao Bohai) (collectively, the Huludao Companies) of 31.29 percent. Id.

In Line Pipe from the PRC, the Department found that suppliers of hot-rolled steel were government-owned with a single exception for the Huludao Companies. Accordingly, the Department determined that supplier to be a private company and thus did not include the hot-rolled steel from that supplier in the Huludao Companies' subsidy calculation. Petitioners, United States Steel Corporation and Maverick Tube Corporation, challenged Line Pipe from the PRC before the CIT, arguing in relevant part that the Department erred in finding that supplier of hot-rolled steel to the Huludao Companies to be a private company and not a state-owned enterprise. On September 10, 2009, the CIT granted the Department's request for a voluntary remand for the limited purpose of “reconsidering and, as necessary, correcting a potential error related to the factual finding concerning the ownership of a supplier of hot-rolled steel” to the Huludao Companies. United States Steel Corp. et al. v. United States, Consol. Court No. 09-00086 (Ct. Int'l Trade Sept. 10, 2009) (order granting motion for voluntary remand).

The Department issued its remand redetermination on October 20, 2009. See United States Steel Corp. et al. v. United States, Consol. Court No. 09-00086, Final Redetermination Pursuant to Remand (Oct. 20, 2009) (Final Redetermination). On remand, the Department determined its previous finding concerning the private ownership of the supplier of hot-rolled steel to the Huludao Companies to be in error. The Department corrected for that error by finding the supplier in question to be government-owned through the application of adverse facts available. See Final Redetermination at 3. As a result of that correction, the Department calculated a revised subsidy rate for the Huludao Companies of 33.43 percent and a revised all-others rate pursuant to section 705(c)(5)(A) of the Tariff Act of 1930, as amended (the Act), of 36.74 percent.¹ Id. at 4.

¹ The all-others rate was recalculated using a simple average of the two responding firms' subsidy rates. See Line Pipe from the PRC, 73 FR at 70962-63.

Amended Final Determination

On December 11, 2009, the CIT sustained the Department's remand redetermination in its entirety. See United States Steel Corp. et al. v. United States, Slip Op. 09-137 (Ct. Int'l Trade Dec. 11, 2009).

Because there is now a final and conclusive decision in the court proceeding, we are further amending Line Pipe from the PRC to reflect the results of the Department's remand redetermination, i.e., the inclusion of the previously excluded supplier to the subsidy calculations. Accordingly, we will instruct CBP to collect cash deposits of estimated countervailing duties at the rate of 33.00 percent of the free on board (f.o.b.) invoice price on all shipments of subject merchandise from the Huludao Companies entered or withdrawn from warehouse, for consumption, on or after publication date of this notice in the Federal Register. Additionally, we will instruct CBP to collect cash deposits of estimated countervailing duties at the rate of 36.53 percent of the f.o.b. invoice price on all shipments of subject merchandise from companies subject to the all-others rate pursuant to section 705(c)(5)(A) of the Act, entered or withdrawn from warehouse, for consumption, on or after publication date of this notice in the Federal Register.

This determination is published pursuant to sections 705(d) and 777(i) of the Act.

Dated: March 25, 2010.
Ronald K. Lorentzen,
Deputy Assistant Secretary for Import Administration.

[FR Doc. 2010-7216 Filed 3-30-10; 8:45 am]

BILLING CODE 3510-DS-S